DEPARTMENT OF ENERGY

Fusion Energy Sciences Advisory Committee

AGENCY: Office of Science, Department of Energy.

ACTION: Notice of open meeting.

SUMMARY: This notice announces a meeting of the Fusion Energy Sciences Advisory Committee. The Federal Advisory Committee Act (Pub. L. 92-463, 86 Stat. 770) requires that public notice of these meetings be announced in the Federal Register.

DATES: Thursday, March 12, 2015—8:30 a.m. to 6:00 p.m., Friday, March 13, 2015—8:30 a.m. to 12:00 noon.

ADDRESSES: Hilton Gaithersburg, 620 Perry Parkway, Gaithersburg, MD 20877.

FOR FURTHER INFORMATION CONTACT: Edmund J. Synakowski, Designated Federal Officer, Office of Fusion Energy Sciences (FES); U.S. Department of Energy; SC-24/Germantown Building, 1000 Independence Avenue SW.; Washington, DC 20585-1290; Telephone: (301) 903-4941.

SUPPLEMENTARY INFORMATION: Purpose of the Committee: To provide advice on a continuing basis to the Director, Office of Science of the Department of Energy, on the many complexes scientific and technical issues that arises in the development and implementation of the fusion energy sciences program.

Tentative Agenda Items:

• DOE/SC Perspective and FY 2016 President's Budget Request for SC

• FES Perspective and FY 2016 President's Budget Request for FES

• Report of the 2014 Committee of Visitors for FES

• New Charge for a Report about FES Science Contributions and Technology Discoveries Beyond Fusion Energy

• Update on Community Engagement Technical Workshops

• Public Comment

• Adjourn

Note: Remote attendance of the FESAC meeting will be possible via ReadyTalk. Instructions can be found on the FESAC Web site: (http://science.energy.gov/fes/fesac/meetings/) or by contacting Dr. Samuel J. Barish by email: sam.barish@science.doe.gov or by phone (301) 903-2917.

Public Participation: The meeting is open to the public. If you would like to file a written statement with the Committee, you may do so either before or after the meeting. If you would like to make an oral statement regarding any of the items on the agenda, you should contact Dr. Samuel J. Barish at (301) 903-8584 (fax) or sam.barish@science.doe.gov (email). Reasonable provision will be made to include the scheduled oral statements during the Public Comments time on the agenda. The Chairperson of the Committee will conduct the meeting to facilitate the orderly conduct of business. Public comment will follow the 10-minute rule.

Minutes: The minutes of the meeting will be available for public review and copying within 30 days on the Fusion Energy Sciences Advisory Committee Web site at: http://science.energy.gov/fes/fesac/.

Issued at Washington, DC, on February 12, 2015.
LaTanya R. Butler,
Deputy Committee Management Officer.

[FR Doc. 2015-03454 Filed 2-18-15; 8:45 am]

BILLING CODE 6450-01-P